DEPARTMENT OF COMMERCE

National Oceanic and Atmospheric Administration

RIN 0648-XK10

North Pacific Fishery Management Council; Public Meeting

AGENCY: National Marine Fisheries Service (NMFS), National Oceanic and Atmospheric Administration (NOAA), Commerce.

ACTION: Notice of a public meeting.

SUMMARY: The North Pacific Fishery Management Council's (Council) Pacific Northwest Crab Industry Advisory Committee (PNCIAC) will meet in Seattle, WA.

DATES: The meeting will be held on September 22, 2008, from 9 a.m. to 12 noon.

ADDRESSES: The meeting will be held at the Leif Erikson Hall, 2245 NW 57th Street, 3rd Floor, Norna Room, Seattle, WA.

Council address: North Pacific Fishery Management Council, 605 W. 4th Ave., Suite 306, Anchorage, AK 99501-2252.

FOR FURTHER INFORMATION CONTACT: Diana Stram, North Pacific Fishery Management Council, telephone: (907) 271-2809 or Arni Thomson, Secretary of PNCIAC, telephone: (206) 769-3474.

SUPPLEMENTARY INFORMATION: The PNCIAC will review ongoing revisions of metadata tables that are integral to the Bering Sea Aleutian Islands Crab Rationalization Economic Data Reports.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Gail Bendixen, (907) 271-2809, at least 5 working days prior to the meeting date.

Dated: August 26, 2008.
Tracey L. Thompson,
Acting Director, Office of Sustainable Fisheries, National Marine Fisheries Service.

[FR Doc. E8-20068 Filed 8-28-08; 8:45 am]

BILLING CODE 3510-22-S